MERIT SYSTEMS PROTECTION BOARD

Privacy Act of 1974; Amendment of Privacy Act System of Records

AGENCY: Merit Systems Protection Board.

ACTION: Notice of adding a new system of records.

SUMMARY: The Merit Systems Protection Board (MSPB or the Board) issues public notice that it is adding a system of records subject to the Privacy Act of 1974 (5 U.S.C. 552a), namely MSPB/INTERNAL-4, “Case Memoranda/Draft Decisions.”

EFFECTIVE DATE: January 14, 2004.

ADDRESSES: Office of the Clerk of the Board, U.S. Merit Systems Protection Board, 1615 M Street, NW., Washington, DC 20419.

FOR FURTHER INFORMATION CONTACT: Timothy L. Korb, Privacy Act Officer, at (202) 653-7200.

SUPPLEMENTARY INFORMATION: By Federal Register notice of June 7, 2000 (65 FR 36166), the Board informed the public that it would no longer maintain records in the system known as MSPB/Internal-4 by the name or personal identifier of the record subject. MSPB/Internal-4 contained advisory memoranda from Board attorneys to the Board members regarding appeals pending before the Board. Following this Federal Register notice, the Board continued to maintain these memoranda in its computer system, but deleted personal identifiers such as party names and docket numbers once a decision was issued. Recently, however, the Board determined that it would no longer delete these identifiers from the memoranda, which means that these memoranda are once again contained in a system of records subject to the Privacy Act.

Although the case memoranda are again covered by the Privacy Act, the Board does not intend to release them to the public, either under the Freedom of Information Act (FOIA), or under the Privacy Act, because the memoranda fall within statutory exemptions to the general duty to provide requested records. Case memoranda come within FOIA Exemption 5, which covers “inter-agency or intra-agency memorandums or letters which would not be available by law to a party other than an agency in litigation with the agency.” 5 U.S.C. 552(b)(5). Case memoranda also come within Privacy Act Exemption (d)(5), which provides that “nothing in this section shall allow an individual access to any information compiled in reasonable anticipation of a civil action or proceeding.” 5 U.S.C. 552a(d)(5).

As required by 5 U.S.C. 552a(e)(4), additional information about MSPB/INTERNAL-4, “Case Memoranda/Draft Decisions,” is provided as follows:

MSPB/INTERNAL-4

SYSTEM NAME:

Case Memoranda/Draft Decisions.

SYSTEM LOCATION:

Office of the Clerk of the Board and Office of Information Resources Management, Merit Systems Protection Board (MSPB), 1615 M Street, NW., Washington, DC 20419.

Categories of individuals covered by the system:

Current and former Federal employees, applicants for employment, annuitants, and other individuals who have filed petitions or requests for review with MSPB, or have been a party in an original jurisdiction case.

Categories of records in the system:

These records consist of advisory memoranda and draft decisions prepared by Board attorneys and employees working under the supervision of Board attorneys for the consideration of Board members in connection with appeals pending before the Board. These records contain individual appellants' names, and may contain appellants' veterans status, race, sex, age, religion, national origin, disability status, and other personal information.

Authority for maintenance of the system:

5 U.S.C. 1204, 7701, 7702.

Purpose(s):

These records are used by the Board members in determining how they will decide the appeals that come before them. These records are also used by Board employees for internal legal research.

Routine uses of records maintained in the system, including categories of users and the purpose of such uses:

There are no routine uses or disclosures to persons who are not Board employees.

Storage:

These records are maintained in electronic form on file servers connected to the Board's local area network or in the Board's document management system.

Retrievability:

These records are retrieved by the names of the individuals on whom they are maintained, and by MSPB docket numbers.

Safeguards:

Access to these records is limited by password and other system-based procedures to persons whose official duties require such access.

Retention and disposal:

Electronic records in this system may be maintained indefinitely, or until the Board no longer needs them.

System managers and addresses:

The Clerk of the Board and the Office of Information Resources Management, Merit Systems Protection Board, 1615 M Street, NW., Washington, DC 20419.

Notification procedures:

Individuals wishing to inquire whether this system of records contains information about them should contact the Clerk of the Board and must follow the MSPB Privacy Act regulations at 5 CFR part 1205.

Record access procedures:

Individuals requesting access to their records should contact the Clerk of the Board, Merit Systems Protection Board, 1615 M Street NW., Washington, DC 20419. Requests for access must comply with the MSPB Privacy Act regulations at 5 CFR part 1205.

Record source categories:

The sources of these records are Board attorneys and other employees acting under the supervision of Board attorneys.

Dated: January 14, 2004.
Bentley M. Roberts, Jr.,
Clerk of the Board.

[FR Doc. 04-1179 Filed 1-20-04; 8:45 am]

BILLING CODE 7400-01-P